FEDERAL DEPOSIT INSURANCE CORPORATION

Notice of Agency Meeting

Pursuant to the provisions of the “Government in the Sunshine Act” (5 U.S.C. 552b), notice is hereby given that at 8:02 a.m. on Monday, August 16, 2004, the Board of Directors of the Federal Deposit Insurance Corporation met in open session to consider the following matters:

Summary reports, status reports, and reports of actions taken pursuant to authority delegated by the Board of Directors.

Memorandum and resolution re: Notice of Proposed Rulemaking—Community Reinvestment Act Regulations.

In calling the meeting, the Board determined, on motion of Director James E. Gilleran (Office of Thrift Supervision), seconded by Vice Chairman John C. Reich, and concurred in by Chairman Donald E. Powell, with Director Thomas J. Curry and Director John D. Hawke, Jr. (Comptroller of the Currency) opposing; that Corporation business required its consideration of the matters on less than seven days' notice to the public; and that no earlier notice of the meeting than that previously provided on August 12, 2004, was practicable.

The meeting was held in the Board Room of the FDIC Building located at 550 17th Street, NW., Washington, DC.

Dated: August 16, 2004.
Federal Deposit Insurance Corporation.
Robert E. Feldman,
Executive Secretary.

[FR Doc. E4-1850 Filed 8-19-04; 8:45 am]

BILLING CODE 6714-01-P